DEPARTMENT OF ENERGY

Federal Energy Regulatory Commission

[Docket No. CP20-50-000; Docket No. CP20-51-000]

Tennessee Gas Pipeline Company, LLC, Southern Natural Gas Company, LLC; Notice of Availability of the Environmental Assessment for the Proposed Evangeline Pass Expansion Project

The staff of the Federal Energy Regulatory Commission (FERC or Commission) has prepared an environmental assessment (EA) for the Evangeline Pass Expansion Project, proposed by Tennessee Gas Pipeline Company, LLC (Tennessee) and Southern Natural Gas Company, LLC (SNG) in the above-referenced dockets.

Tennessee requests authorization to construct and operate a total of approximately 13 miles of 36-inch-diameter looping pipeline: ¹ Yscloskey Toca Lateral Loop (about 9 miles) in St. Bernard Parish, Louisiana and Grand Bayou Loop (about 4 miles) in Plaquemines Parish, Louisiana. Additionally, Tennessee requests authorization to construct and operate a new 23,470 horsepower (hp) compressor station (Compressor Station [CS] 529) in St. Bernard Parish, Louisiana.

¹ A pipeline loop is a segment of pipe constructed parallel to an existing pipeline to increase capacity.

SNG requests authorization to construct and operate a new 22,220 hp compressor station (Rose Hill CS) in Clarke County, Mississippi and three new meter stations: Rose Hill Receipt Meter Station (MS) in Clarke County, Mississippi, MEP Receipt MS in Smith County, Mississippi, and Toca Delivery MS in St. Bernard Parish, Louisiana. SNG is also requesting authorization to abandon the new capacity by lease to Tennessee.

The proposed projects, collectively known as the Evangeline Pass Expansion Project, would provide up to 1,100,000 dekatherms per day to the Venture Global Gator Express Pipeline interconnect for feed gas for the Plaquemines Liquified Natural Gas Terminal in Plaquemines Parish, Louisiana.

The EA assesses the potential environmental effects of the construction and operation of the projects in accordance with the requirements of the National Environmental Policy Act. The FERC staff concludes that approval of the proposed projects, with appropriate mitigating measures, would not constitute a major federal action significantly affecting the quality of the human environment.

The Commission mailed a copy of the Notice of Availability to federal, state, and local government representatives and agencies; elected officials; environmental and public interest groups; Native American tribes; potentially affected landowners and other interested individuals and groups; and newspapers and libraries in the project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://www.ferc.gov/ferc-online/elibrary/overview), select General Search and enter the docket number in the Docket Number field, excluding the last three digits (i.e. CP20-50 or CP20-51). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of issues raised in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00pm Eastern Time on September 23, 2020.

For your convenience, there are three methods you can use to file your comments with the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on eRegister. You must select the type of filing you are making. If you are filing a comment on a particular project, please select Comment on a Filing; or

(3) You can file a paper copy of your comments by mailing them to the Commission. Be sure to reference the project docket number (CP20-50-000 or CP20-51-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/ferc-online/ferc-online/how-guides.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: August 24, 2020.
Nathaniel J. Davis, Sr.,
Deputy Secretary.

[FR Doc. 2020-18993 Filed 8-27-20; 8:45 am]

BILLING CODE 6717-01-P